DEPARTMENT OF LABOR

Employment and Training Administration

[TA-W-57,790]

Science Applications International Corporation (SAIC), Piscataway, NJ; Dismissal of Application for Reconsideration

Pursuant to 29 CFR 90.18(C), an application for administrative reconsideration was filed with the Director of the Division of Trade Adjustment Assistance for workers at Science Applications International Corporation (SAIC), Piscataway, New Jersey. The application did not contain new information supporting a conclusion that the determination was erroneous, and also did not provide a justification for reconsideration of the determination that was based on either mistaken facts or a misinterpretation of facts or of the law. Therefore, dismissal of the application was issued.

TA-W-57,790; Science Applications International Corporation (SAIC), Piscataway, New Jersey (November 28, 2005).

Signed at Washington, DC, this 30th day of November, 2005.
Erica R. Cantor,
Director, Division of Trade Adjustment Assistance.

[FR Doc. E5-7056 Filed 12-7-05; 8:45 am]

BILLING CODE 4510-30-P